DEPARTMENT OF TRANSPORTATION

Federal Transit Administration

Environmental Impact Statement for Improved Transit Access Across the Hudson River to New York City, Referred to as Access to the Region's Core

AGENCY: Federal Transit Administration (FTA).

ACTION: Notice of Intent to prepare an Environmental Impact Statement.

SUMMARY: The Federal Transit Administration (FTA) is issuing this notice to advise other agencies and the public that, in accordance with the National Environmental Policy Act and its implementing regulations, FTA and the New Jersey Transit Corporation (NJ TRANSIT), in partnership with the Port Authority of New York & New Jersey (PANYNJ), intend to prepare an Environmental Impact Statement (EIS) to evaluate alternatives that increase transit capacity across the Hudson River to meet the growing demand for travel between midtown Manhattan (23rd Street to 59th Street, Hudson River to East River) and west-of-Hudson points in New Jersey and New York. NJ TRANSIT is the local sponsoring agency for this EIS. Among the alternatives to be considered is the construction of a new trans-Hudson River rail tunnel and additional infrastructure improvements in New Jersey and proximate to Penn Station New York (PSNY) to improve train and commuter capacity. The tunnel alternative was recommended on the basis of a Major Investment Study (MIS) conducted from 1995 to 2003, which is available for review as described in ADDRESSES below. FTA, NJ TRANSIT, and PANYNJ seek public and interagency input on the scope of the EIS for the project, including the alternatives to be considered and the environmental and community impacts to be evaluated. The project is called Access to the Region's Core (ARC).

DATES: Scoping Comments Due Date: Written comments on the scope of the EIS should be sent to NJ TRANSIT by January 30, 2004. See ADDRESSES below.

Scoping Meeting: Public scoping meetings to determine the appropriate scope of the EIS for ARC will be held on December 8, 2003 in Newark and December 10, 2003 in New York City at the locations given in ADDRESSES below. Registration to speak will begin at 11 am for the mid-day session and at 5 pm for the evening session and will remain open for both sessions until all who wish to speak have been heard. The buildings are accessible to people with disabilities. A sign language interpreter will be available for the hearing impaired. People with other special needs should call the study toll-free information line at 1-877-ARC-0999. Oral and written comments may be given at the scoping meetings; a stenographer will record oral comments. At the meetings, project staff will be available for informal discussion and questions on project-related issues. Scoping information is available on the project Web site at http://www.accesstotheregionscore.com and will be available at the scoping meetings. Scoping material may also be obtained by contacting David Widawsky, Project Manager, at the NJ TRANSIT address given in ADDRESSES below or by calling toll-free 1-877-ARC-0999 or by e-mailing info@accesstotheregionscore.com.

ADDRESSES: Written comments on the project scope should be forwarded to David Widawsky, Project Manager, NJ TRANSIT, One Penn Plaza East, 4th Floor, Newark, NJ 07105-2246 or via e-mail to info@accesstotheregionscore.com. The scoping meetings will be held at the following locations: The Gateway Hilton, Newark Gateway Center @ Raymond Boulevard, Newark, New Jersey 07102 on December 8, 2003 from 11 am to 2 pm and from 5 pm to 8 pm and at the Hotel Pennsylvania, 401 Seventh Avenue, New York, New York 10001 on December 10, 2003 from 11 am to 2 pm and from 5 pm to 8 pm. If you wish to be placed on the mailing list to receive further information as the EIS study develops, call the toll-free information line at 1-877-ARC-0999 or send an e-mail request to info@accesstotheregionscore.com. The Major Investment Study (MIS) Summary Report can be downloaded from the project Web site at http://www.accesstotheregionscore.com or a hard copy can be obtained by contacting the Project Manager, as indicated above. Updated information on ARC will also be posted on the project Web site given above.

FOR FURTHER INFORMATION CONTACT: Mr. James A. Goveia, Community Planner, Federal Transit Administration, Region II, One Bowling Green, Room 429, New York, New York, 10004-1415; telephone: (212) 668-2170.

SUPPLEMENTARY INFORMATION:

I. Scoping

The FTA, NJ TRANSIT, and the PANYNJ invite all interested individuals and organizations, and federal, state, and local agencies to comment on the scope of the EIS. During the scoping process, comments should focus on identifying specific social, economic, or environmental issues to be evaluated, or on proposing alternatives that may be less costly, more cost effective or have fewer environmental impacts while achieving similar transportation objectives. At this time, comments should not focus on a preference for a particular alternative.

Following the public scoping process, public outreach activities will include meetings with a Regional Citizens' Liaison Committee (RCLC) established for the study, as well as meetings with interested parties or small groups. Those wishing to participate in the RCLC may do so by registering on the Web site at http://www.accesstotheregionscore.com or by calling toll free 1-877-ARC-0999 or by e-mailing info@accesstotheregionscore.com. As part of the public participation process, the study Web site, http://www.accesstotheregionscore.com, will be periodically updated to reflect the project's current status. In addition, newsletters will be circulated to a broad constituency to ensure people are informed about the project. Additional opportunities for public participation will be announced through mailings, notices, advertisements, and press releases.

II. Description of Study Area and Transportation Needs

The primary project study area is defined as the travel corridor from Newark Liberty International Airport Station, through PSNY, to Sunnyside Yard in Queens. The market area for the proposed ARC transit service is a much larger area that encompasses all of the individual market areas of the existing and planned passenger rail lines that serve PSNY from west of the Hudson River.

The goal of the ARC EIS is to examine alternatives that provide new transit capacity to meet the growing demand for travel between midtown Manhattan and west-of-Hudson points in New Jersey and New York. The rail and highway networks, as well as commuter bus services and facilities, in this corridor are at or near capacity. As shown in the MIS increased trans-Hudson transit capacity would help to meet the growing demand on existing lines and additional demand that would be created by other ongoing capital improvements such as the opening of the Secaucus Junction station and the recent inauguration of Midtown Direct service via the Montclair Connection. It is anticipated that these improvements will open new markets, attracting additional riders on trains between west-of-Hudson markets and PSNY, adding pressures to capacity and service reliability. The ARC MIS conducted from 1995 to 2003 indicated that a new rail tunnel is needed because: (1) Trans-Hudson rail lines are already at or near capacity; (2) commuter rail can best provide the high transit capacity and geographic coverage that is needed; (3) train capacity constraints exist at PSNY; and (4) long-term growth trends in population, employment, and regional development are expected to continue.

III. Alternatives

The alternatives proposed for evaluation in the EIS include:

1. The No Action Alternative, which includes the current transportation network and the other projects in the long-range transportation plans of the both metropolitan planning organizations (North Jersey Transportation Planning Authority and New York Metropolitan Transportation Council) that will be completed by the design year of the ARC project.

Two long-term build alternatives (Alternatives P and S) to be developed by 2015:

2. Long-Term Build Alternative P (Penn Station), which includes a new two track rail line from Secaucus Junction and a new tunnel from a portal near Tonnelle Avenue in Union City, adjacent to the existing North River tunnel, continuing under the Palisades and the Hudson River to Penn Station New York. Alternative P also includes increased station capacity at Penn Station New York. Alternative P would significantly increase the transit capacity to midtown Manhattan for west-of-Hudson commuters and would also achieve the additional goals of meeting the growing demand generated by commuters on existing transit lines and highways, providing capacity for expansion of transit service into new markets, improving service reliability and reducing travel times for existing riders, and providing improved access to planned activity centers on Manhattan's far West Side. As initially proposed, key features of this alternative, from west to east include: (a) A track connection at Secaucus Junction permitting direct service from the Main/Bergen, Pascack Valley, and Port Jervis lines via the Northeast Corridor to PSNY; (b) a storage yard in Secaucus, New Jersey for the additional NJ TRANSIT trains operating in the new tunnel; (c) a fifth track at the Secaucus Junction to accommodate the additional trains from the Main/Bergen, Pascack Valley, and Port Jervis lines; (d) two additional tracks on the Northeast Corridor High Line east of the Secaucus Junction to accommodate additional trains operating in a new tunnel; (e) a new two track tunnel under the Palisades and Hudson River; (f) a new lower level 8-track, 4-platform station directly beneath the existing tracks of PSNY; (g) new passenger circulation corridors, designed to link the new tracks and platforms with the street and with existing passenger concourses; and (h) A short length of tunnel designed for future use and concealed behind a breakout wall. This feature would facilitate a future extension of service north to the vicinity of Grand Central Terminal or east to Sunnyside Yard in Queens with minimal disruption to existing train operations.

3. Long-Term Build Alternative S (Sunnyside Yard) is identical to Alternative P (Penn Station) west of the Hudson River. Alternative S includes a new two track rail line from Secaucus Junction and a new tunnel from a portal near Tonnelle Avenue in Union City, adjacent to the existing North River tunnel, continuing under the Palisades and the Hudson River to Penn Station New York. Alternative S also includes increased station capacity at Penn Station New York. Alternative S would significantly increase the transit capacity to midtown Manhattan for west-of-Hudson commuters and would also achieve the additional goals of meeting the growing demand generated by commuters on existing transit lines and highways, providing capacity for expansion of transit service into new markets, improving service reliability and reducing travel times for existing riders, and providing improved access to planned activity centers on Manhattan's far West Side. As initially proposed, key features of Alternative S from west to east are: (a) A track connection at Secaucus Junction permitting direct service from the Main/Bergen, Pascack Valley, and Port Jervis lines via the Northeast Corridor to PSNY; (b) a fifth track at the Secaucus Junction to accommodate the additional trains from the Main/Bergen, Pascack Valley, and Port Jervis lines; (c) two additional tracks on the Northeast Corridor High Line east of the Secaucus Junction to accommodate additional trains operating in a new tunnel; (d) reconfiguration of Tracks 1-5 and extension of Platforms 1 and 2 in Penn Station New York; (e) a second new two track tunnel breaking out of Tracks 1-5 at the east end of Penn Station New York, continuing under 31st Street in Manhattan and under the East River to Sunnyside Yard in Queens; (f) a short length of tunnel designed for future use and concealed behind a breakout wall. This feature would facilitate a future extension of service north to the vicinity of Grand Central Terminal with minimal disruption to existing train operations. Alternative S differs from Alternative P by providing an additional new tunnel under 31st Street in Manhattan, continuing under the East River that will enable additional NJ TRANSIT and possibly Amtrak trains to access the storage yards at Sunnyside in Queens.

4. Near-Term Improvement Alternatives: In addition, NJ TRANSIT has developed near-term improvements that could be developed incrementally in phases to expand trans-Hudson and PSNY capacity by 2010. During this near-term period, the effects of many new services such as the NJ TRANSIT Montclair Connection, the NJ TRANSIT Secaucus Junction, Amtrak High Speed Acela service, and expanded Long Island Rail Road (LIRR) service with dual-power locomotives and bi-level coaches will mature, and PSNY will not have the room to accommodate the resulting train and passenger demand. The proposed near-term improvements provide capacity enhancements at PSNY to meet these demands. The near-term improvements include: (a) A linear yard east of PSNY Tracks 1-5 under 31st Street to store up to six trains, which could be the first incremental phase of through tracks to Sunnyside Yard as in Alternative S; (b) an easterly extension of PSNY Platforms 1 and 2 to permit the operation of longer NJ TRANSIT trains; and (c) a new 12th Avenue Yard west of 10th Avenue between 30th and 31st Streets to store up to an additional 12 trains. The Near-Term Improvement Alternatives may be implemented as stand-alone projects, or as an initial phase of the build alternatives.

Any additional reasonable alternatives that emerge from the scoping process will be considered.

IV. Probable Effects

The FTA, NJ TRANSIT, and PANYNJ will evaluate both project-specific and cumulative changes to the social, economic, and physical environment, including land acquisition and displacements; land use, zoning and economic development; parklands; community disruption; aesthetics; historic and archeological resources; traffic and parking; air quality; noise and vibration; water quality; wetlands; ecologically sensitive areas; endangered species; energy requirements and potential for conservation; hazardous waste; environmental justice; and safety and security. Through the MIS process, the following environmental sensitivities have already been identified for consideration during the EIS.

In New Jersey these environmental sensitivities include: (a) Habitat and wetlands encroachment in the New Jersey Meadowlands; (b) hazardous materials disturbance and disposal associated with facilities such as the Malanka Landfill; (c) surface waters and floodplains, along with coastal wildlife habitats; (d) historic architectural (above-ground) and archaeological (below-ground) resources; (e) electrical power transmission facilities; and (f) air quality and noise/vibration due to rail operations and park-ride facilities traffic.

In New York these environmental sensitivities include: (a) Hazardous materials disturbance and disposal; (b) air quality and noise/vibration associated with construction; (c) vehicular and pedestrian flow during construction; (d) utilities and their possible relocation during construction; (e) underground fuel tanks below buildings; (e) landmarks and historic buildings/structures; and (f) parks and recreation areas.

In the Hudson River and East River these environmental sensitivities include: (a) Regulations and associated permits from Federal and State jurisdictional agencies; (b) disturbance and disposal of hazardous materials; (c) marine and benthic (bottom-dwelling) habitat and wildlife disturbance related to alternative construction techniques.

Key areas of environmental concern would be in the areas of new construction (e.g., new structures, new stations, new track). The impacts will be evaluated both for the construction period and for the long-term period of operation of each alternative. Measures to mitigate adverse impacts will be explored.

V. FTA Procedures

The EIS is being prepared in accordance with the National Environmental Policy Act of 1969 (NEPA), as amended, and implemented by the Council on Environmental Quality (CEQ) regulations (40 CFR parts 1500-1508), the FTA/Federal Highway Administration's Environmental Impact and Related Procedures (23 CFR part 771). This study will also address the requirements of the National Historic Preservation Act of 1966, as amended, Section 4(f) of the 1966 U.S. Department of Transportation Act, the Clean Air Act, as amended, Section 6(f) the Clean Water Act, the Executive Orders on Environmental Justice, Floodplain Management, and Protection of Wetlands, and other applicable environmental laws, regulations, and executive orders.

The MIS that resulted in the recommendation to build a new Hudson River rail tunnel and related infrastructure on both sides of the Hudson River was issued in 2003. FTA intends to incorporate the MIS by reference into the EIS, as well as various supplemental studies conducted subsequent to the MIS, including an initial evaluation of the potential social, economic, and environmental impacts of the MIS alternatives.

Upon completion, the Draft EIS will be available for public and agency review and comment. Public hearings on the Draft EIS will be held within the study area. On the basis of the Draft EIS and the public and agency comments received, a locally preferred alternative will be selected for further analysis and refinement in the Final EIS.

Issued on: November 7, 2003.
Letitia Thompson,
Regional Administrator.

[FR Doc. 03-28481 Filed 11-13-03; 8:45 am]

BILLING CODE 4910-57-P